DEPARTMENT OF HEALTH AND HUMAN SERVICES

National Institutes of Health

Prospective Grant of an Exclusive Patent License: Antibody-Based Therapy for the Treatment of CD20 Expressing Lymphomas

AGENCY: National Institutes of Health, HHS.

ACTION: Notice.

SUMMARY: The National Heart, Lung, and Blood Institute, an institute of the National Institutes of Health, Department of Health and Human Services, is contemplating the grant of an exclusive patent license to practice the inventions embodied in the Patents and Patent Applications listed in the Supplementary Information section of this notice to Retargeted Therapeutics, a corporation incorporated under the laws of the state of Delaware.

DATES: Only written comments and/or applications for a license which are received by the National Heart, Lung, and Blood on or before June 8, 2020 will be considered.

ADDRESSES: Requests for copies of the patent application, inquiries, and comments relating to the contemplated an exclusive patent license should be directed to: Vidita Choudhry, Ph.D. Technology Transfer Manager, 31 Center Drive Room 4A29, MSC2479, Bethesda, MD 20892-2479, phone number (301)-594-4095, or vidita.choudhry@nih.gov.

SUPPLEMENTARY INFORMATION:

Intellectual Property
NIH ref No. | Title | Patent application No. | Filing date | Issued patent No. | Issue date
E-758-2013-0-US-01 | Antibody Targeting Cell Surface Deposited Complement Protein C3d and Use Thereof | 61/924,967 | January 8, 2014 |  |
E-758-2013-1-PCT-01 | Antibody Targeting Cell Surface Deposited Complement Protein C3d and Use Thereof | PCT/US2015/010620 | January 8, 2015 |  |
E-758-2013-1-US-02 | Antibody Targeting Cell Surface Deposited Complement Protein C3d and Use Thereof | 15/110,577 | July 8, 2016 | 10,035,848 | July 31, 2018.
E-758-2013—1-CA-03 | Antibody Targeting Cell Surface Deposited Complement Protein C3d and Use Thereof | 2936346 | January 8, 2015 |
E-758-2013-1-EP-04 | Antibody Targeting Cell Surface Deposited Complement Protein C3d and Use Thereof | 15701442.4 | January 8, 2015 | 3092252 | September 18, 2019.
E-758-2013-1-US-05 | Antibody Targeting Cell Surface Deposited Complement Protein C3d and Use Thereof | 16/047,929 | July 27, 2018 |
E-025-2019-0-US-01 | Antibody Targeting Cell Surface Deposited Complement Protein C3d and Use Thereof | 62/945,569 | December 9, 2019 |  |

Intellectual property listed here includes all U.S. and foreign patents and applications claiming priority to any member of the aforementioned applications.

The patent rights in these inventions have been assigned or exclusively licensed to the Government of the United States of America.

The prospective exclusive license territory may be worldwide and in fields of use that may be limited to use of anti-C3d monoclonal antibodies (mAbs) to potentiate anti-tumor activity of anti-CD20 mAbs for the treatment of B-cell lymphomas.

The aforementioned Patents and Patent applications cover technology directed to development of anti-C3d antibody or antibody fragments to re-target cells that have escaped from existing mAbs therapy and to potentiate the anti-tumor activity of therapeutic mAbs and eliminate antigen loss variants.

This notice is made in accordance with 35 U.S.C. 209 and 37 CFR part 404. The prospective exclusive license will be royalty bearing. The prospective exclusive license may be granted unless within fifteen (15) days from the date of this published notice, the National Heart, Lung, and Blood Institute receives written evidence and argument that establishes that the grant of the license would not be consistent with the requirements of 35 U.S.C. 209 and 37 CFR part 404.

In response to this Notice, the public may file comments or objections. Comments and objections, other than those in the form of a license application, will not be treated confidentially, and may be made publicly available.

License applications submitted in response to this notice will be presumed to contain business confidential information and any release of information in these license applications will be made only as required and upon a request under the Freedom of Information Act, 5 U.S.C. 552.

Dated: May 14, 2020.
Bruce D. Goldstein,
Director, Office of Technology Transfer and Development, National Heart, Lung, and Blood Institute.

[FR Doc. 2020-11036 Filed 5-21-20; 8:45 am]

BILLING CODE 4140-01-P